DEPARTMENT OF ENERGY

Federal Energy Regulatory Commission

Combined Notice of Filings #1

Take notice that the Commission received the following electric corporate filings:

Docket Numbers: EC18-82-000.

Applicants: BlueGreen Holding, LLC, Xoom Energy Global Holdings, LLC, Xoom Energy, LLC, NRG Retail LLC.

Description: Joint Application for Authorization Under Federal Power Act Section 203 and Request for Expedited Action of BlueGreen Holding, LLC, et al.

Filed Date: 4/5/18.

Accession Number: 20180405-5160.

Comments Due: 5 p.m. ET 4/26/18.

Take notice that the Commission received the following exempt wholesale generator filings:

Docket Numbers: EG18-72-000.

Applicants: Stella Wind Farm, LLC.

Description: Self-Certification of EWG Status of Stella Wind Farm, LLC.

Filed Date: 4/5/18.

Accession Number: 20180405-5155.

Comments Due: 5 p.m. ET 4/26/18.

Take notice that the Commission received the following electric rate filings:

Docket Numbers: ER18-499-002.

Applicants: Southwestern Electric Power Company.

Description: Tariff Amendment: Hope PSA to be effective 1/1/2018.

Filed Date: 4/4/18.

Accession Number: 20180404-5190.

Comments Due: 5 p.m. ET 4/25/18.

Docket Numbers: ER18-500-002.

Applicants: Southwestern Electric Power Company.

Description: Tariff Amendment: Bentonville PSA to be effective 1/1/2018.

Filed Date: 4/4/18.

Accession Number: 20180404-5223.

Comments Due: 5 p.m. ET 4/25/18.

Docket Numbers: ER18-929-001.

Applicants: Penn Oak Services, LLC.

Description: Tariff Amendment: Amended MBR Tariff Filing to be effective 3/1/2018.

Filed Date: 4/5/18.

Accession Number: 20180405-5062.

Comments Due: 5 p.m. ET 4/26/18.

Docket Numbers: ER18-1300-000.

Applicants: Powerex Corp.

Description: Notice of Cancellation of a Certificate of Concurrence of Powerex Corp.

Filed Date: 4/4/18.

Accession Number: 20180404-5158.

Comments Due: 5 p.m. ET 4/25/18.

Docket Numbers: ER18-1301-000.

Applicants: Bayonne Energy Center, LLC.

Description: Petition of Bayonne Energy Center, LLC For Limited Waiver, et al.

Filed Date: 4/4/18.

Accession Number: 20180404-5230.

Comments Due: 5 p.m. ET 4/18/18.

Docket Numbers: ER18-1302-000.

Applicants: PJM Interconnection, L.L.C.

Description: § 205(d) Rate Filing: Original WMPA SA No. 4962; Queue No. AB1-001 to be effective 3/9/2018.

Filed Date: 4/5/18.

Accession Number: 20180405-5017.

Comments Due: 5 p.m. ET 4/26/18.

Docket Numbers: ER18-1303-000.

Applicants: PJM Interconnection, L.L.C.

Description: § 205(d) Rate Filing: Original WMPA SA No. 5041; Queue No. AC2-089 to be effective 3/20/2018.

Filed Date: 4/5/18.

Accession Number: 20180405-5118.

Comments Due: 5 p.m. ET 4/26/18.

Docket Numbers: ER18-1304-000.

Applicants: Southern California Edison Company.

Description: § 205(d) Rate Filing: Letter Agreement for Meter Work at Vista Substation to be effective 4/6/2018.

Filed Date: 4/5/18.

Accession Number: 20180405-5147.

Comments Due: 5 p.m. ET 4/26/18.

Docket Numbers: ER18-1305-000.

Applicants: Horse Butte Wind I LLC.

Description: Tariff Cancellation: Cancellation notice 2018 to be effective 4/6/2018.

Filed Date: 4/5/18.

Accession Number: 20180405-5157.

Comments Due: 5 p.m. ET 4/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2018.
Nathaniel J. Davis, Sr.,
Deputy Secretary.

[FR Doc. 2018-07876 Filed 4-13-18; 8:45 am]

BILLING CODE 6717-01-P